ENVIRONMENTAL PROTECTION AGENCY

40 CFR Part 70

[Petition IV-2001-3; FRL-7245-6]

Clean Air Act Operating Permit Program; Petition for Objection to State Operating Permit for Seminole Road Landfill; Ellenwood (Dekalb County), GA

AGENCY: Environmental Protection Agency (EPA).

ACTION: Notice of final order on petition to object to a state operating permit.

SUMMARY: Pursuant to Clean Air Act section 505(b)(2) and 40 CFR 70.8(d), the EPA Administrator signed an order, dated June 5, 2002, denying a petition to object to a state operating permit issued by the Georgia Environmental Protection Division (EPD) to Seminole Road Landfill (Seminole Landfill) located in Ellenwood, Dekalb County, Georgia. This order constitutes final action on the petition submitted by the Georgia Center for Law in the Public Interest (GCLPI or Petitioner) on behalf of the Sierra Club. Pursuant to section 505(b)(2) of the Clean Air Act (the Act) any person may seek judicial review in the United States Court of Appeals for the appropriate circuit within 60 days of this notice under section 307 of the Act.

ADDRESSES: Copies of the final order, the petition, and all pertinent information relating thereto are on file at the following location: EPA Region 4, Air, Pesticides and Toxics Management Division, 61 Forsyth Street, SW., Atlanta, Georgia 30303-8960. The final order is also available electronically at the following address: http://www.epa.gov/region07/programs/artd/air/title5/petitiondb/petitions/seminole—decision2001.pdf.

FOR FURTHER INFORMATION CONTACT: Art Hofmeister, Air Permits Section, EPA Region 4, at (404) 562-9115 or hofmeister.art@epa.gov.

SUPPLEMENTARY INFORMATION: The Act affords EPA a 45-day period to review and, as appropriate, object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

GCLPI submitted a petition on behalf of the Sierra Club to the Administrator on August 22, 2001, requesting that EPA object to a state title V operating permit issued by EPD to Seminole Landfill. The Petitioner maintains that the Seminole Landfill permit is inconsistent with the Act because of: (1) The inaccuracy of the permit application; (2) the incompleteness of the permit narrative and the permit itself; (3) the permit's apparent limitation of enforcement authority and credible evidence; (4) inadequate reporting requirements relating to monitoring; and (5) inadequate public notice procedures.

On June 5, 2002, the Administrator issued an order denying this petition. The order explains the reasons behind EPA's conclusion that the Petitioner has failed to demonstrate that the Seminole Landfill permit is not in compliance with the requirements of the Act on the grounds raised.

Dated: June 24, 2002.
A. Stanley Meiburg,
Deputy Regional Administrator, Region 4.

[FR Doc. 02-17693 Filed 7-12-02; 8:45 am]

BILLING CODE 6560-50-P